DEPARTMENT OF COMMERCE

International Trade Administration

[A-570-831]

Fresh Garlic From the People's Republic of China: Final Rescission of the Semiannual Antidumping Duty New Shipper Review of Qingdao Doo Won Foods Co., Ltd.

AGENCY: Enforcement and Compliance, International Trade Administration, Department of Commerce

SUMMARY: The Department of Commerce (Commerce) has conducted a new shipper review (NSR) of Qingdao Doo Won Foods Co., Ltd. (Doo Won) regarding the antidumping duty order on fresh garlic from the People's Republic of China (China). Based on our analysis of the comments received, we continue to find Doo Won is not the producer of the fresh garlic it exported to the United States. Consequently, we are rescinding this NSR.

DATES: Applicable October 9, 2018.

FOR FURTHER INFORMATION CONTACT: Kathryn Wallace and Alex Cipolla, AD/CVD Operations, Office VII, Enforcement and Compliance, International Trade Administration, U.S. Department of Commerce, 1401 Constitution Avenue NW, Washington, DC 20230; telephone: (202) 482-6251 and (202) 482-4956, respectively.

SUPPLEMENTARY INFORMATION:

Background

On July 10, 2017, Commerce published a notice of initiation of a new shipper review of fresh garlic from China for the period November 1, 2016, through April 30, 2017.¹ On May 17, 2018, Commerce published the preliminary results of this new shipper review.² On August 1, 2018, Commerce cancelled the planned verification of Doo Won's responses due to the unverifiable state of the record.³ The period of review (POR) is November 1, 2016, through April 30, 2017. A summary of the events that occurred since Commerce published the Preliminary Results, as well as a full discussion of the issues raised by parties for this final determination, are found in the Issues and Decision Memorandum, dated concurrently with, and hereby adopted by, this notice.⁴ The Issues and Decision Memorandum is a public document and is on file electronically via Enforcement and Compliance's Antidumping and Countervailing Duty Centralized Electronic Service System (ACCESS). ACCESS is available to registered users at http://access.trade.gov, and it is available to all parties in the Central Records Unit, Room B8024 of the main Commerce building. In addition, a complete version of the Issues and Decision Memorandum can be accessed directly at http://enforcement.trade.gov/frn/. The signed and electronic versions of the Issues and Decision Memorandum are identical in content.

¹ See Fresh Garlic from the People's Republic of China: Initiation of Antidumping Duty New Shipper Review; 2016-2017, 82 FR 31756 (July 10, 2017).

² See Fresh Garlic from the People's Republic of China: Preliminary Rescission of the New Shipper Review, 83 FR 22959 (May 17, 2018) (Preliminary Results) and accompanying Preliminary Decision Memorandum.

³ See Commerce's Letter, “Semiannual New Shipper Review of the Antidumping Duty Order on Fresh Garlic from the People's Republic of China—Cancellation of Qingdao Doo Won Food Co., Ltd.'s Verification,” dated August 1, 2018.

⁴ See Memorandum, “Issues and Decision Memorandum for the Final Rescission of Antidumping Duty Semiannual New Shipper Review on Fresh Garlic from the People's Republic of China: Qingdao Doo Won Foods Co., Ltd.,” dated October 1, 2018 (Issues and Decision Memorandum).

Scope of the Order

The merchandise covered by this order is all grades of garlic, whether whole or separated into constituent cloves. The subject merchandise is currently classifiable under the Harmonized Tariff Schedule of the United States (“HTSUS”) subheadings: 0703.20.0000, 0703.20.0005, 0703.20.0010, 0703.20.0015, 0703.20.0020, 0703.20.0090, 0710.80.7060, 0710.80.9750, 0711.90.6000, 0711.90.6500, 2005.90.9500, 2005.90.9700, and 2005.99.9700. A full description of the scope of the order is contained in the Issues and Decision Memorandum.⁵ Although the HTSUS subheadings are provided for convenience and customs purposes, the written product description is dispositive.

⁵ See the Issues and Decision Memorandum.

Final Rescission of New Shipper Review

As explained in the Issues and Decision Memorandum, we continue to find that Doo Won is not the producer of the garlic subject to this review. Accordingly, its new shipper review request was invalid under 19 CFR 351.214(b)(2)(ii). As a result, we are rescinding the new shipper review of Doo Won.

Analysis of Comments Received

All issues raised in the case and rebuttal briefs are addressed in the Issues and Decision Memorandum. A list of the issues that are raised in the briefs and addressed in the Issues and Decision Memorandum is in the Appendix to this notice.

Cash Deposit Requirements

Effective upon publication of the final rescission of the NSR of Doo Won, Commerce will instruct U.S. Customs and Border Protection (CBP) to collect cash deposits for exports of subject merchandise by Doo Won entered, or withdrawn from warehouse, for consumption on or after the publication date, at the China-wide rate.⁶

⁶ See 19 CFR 351.212(c).

Assessment Instructions

As the result of this rescission of the NSR of Doo Won, the entries of Doo Won covered by this NSR will be assessed at the cash deposit rate required at the time of entry, which is the China-wide rate.

Notification to Importers

This notice serves as final reminder to importers of their responsibility under 19 CFR 351.402(f)(2) to file a certificate regarding the reimbursement of antidumping duties prior to liquidation of the relevant entries during this POR. Failure to comply with this requirement could result in the Secretary of Commerce's presumption that reimbursement of antidumping duties occurred and the subsequent assessment of double antidumping duties.

Return or Destruction of Proprietary Information

This notice serves as a reminder to parties subject to administrative protective order (APO) of their responsibility concerning the disposition of business proprietary information disclosed under the APO in accordance with 19 CFR 351.305(a)(3). We request timely written notification of return or destruction of APO materials or conversion to judicial protective order. Failure to comply with the regulations and the terms of an APO is a sanctionable violation.

This notice is issued and published this notice in accordance with sections 751(i) and 777(i)(1) of the Act and 19 CFR 351.221(b)(5).

Dated: October 1, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Bona Fides Analysis

V. Finding that Doo Won is not the Producer of the Subject Merchandise

VI. Discussion of the Issues

Comment 1: Whether Doo Won was the Producer of the Subject Merchandise

Comment 2: Whether Commerce's Reliance on “Inconsistencies” in Doo Won's Responses to Substantiate its Cancellation of Verification is Reasonable

Comment 3: Whether Commerce is Obligated to Verify or Utilize Doo Won's Reported Information

Comment 4: Whether Commerce Wrongfully Rejected Doo Won's New Factual Information

VII. Recommendation

[FR Doc. 2018-21733 Filed 10-5-18; 8:45 am]

BILLING CODE 3510-DS-P